DEPARTMENT OF THE INTERIOR

Bureau of Land Management

[CA-310-1820-AE]

Resource Advisory Council Meeting

AGENCY: Bureau of Land Management, Northeast California Resource Advisory Council, Susanville, California.

ACTION: Notice of meeting date and location change.

SUMMARY: Pursuant to the authorities in the Federal Advisory Committees Act (Public Law 92-463) and the Federal Land Policy and Management Act (Public Law 94-579), the U. S. Bureau of Land Management's Northeast California Resource Advisory Council will meet Thursday and Friday, Jan. 29 and 30, 2004, in the meeting room of the Cedarville Community Church, corner of Center and Bonner Streets in Cedarville, California. The meeting date and location are changed from an earlier announced date of Jan. 22 and 23, 2004 in the BLM Office, Cedarville.

SUPPLEMENTARY INFORMATION: The original meeting notice was published in the Federal Register on Nov. 20, 2003 (Volume 68, No. 224, Notices, page 65470). Agenda items remain unchanged from the original announcement, but the time for public comments has been moved to 11:15 a.m. on Friday, Jan. 30, 2004.

FOR FURTHER INFORMATION CONTACT: Tim Burke, BLM Alturas Field Manager, at (530) 233-4666, or Public Affairs Officer Joseph J. Fontana, (530) 252-5332.

Joseph J. Fontana,
Public Affairs Officer.

[FR Doc. 03-30070 Filed 12-2-03; 8:45 am]

BILLING CODE 4310-40-P